DEPARTMENT OF ENERGY

Notice of Cancellation of Environmental Impact Statement for Implementation of the Low-Emission Boiler System (LEBS) Proof-of-Concept System, Elkhart, IL

AGENCY: Department of Energy.

ACTION: Notice of Cancellation of Environmental Impact Statement Process.

SUMMARY: The Department of Energy (DOE) is cancelling the preparation of an Environmental Impact Statement (EIS) under the National Environmental Policy Act (NEPA) for a proposal by Babcock Borsig Power to design, construct, and operate an advanced pulverized coal-fired power facility using a low emission boiler system (LEBS) at Elkhart, Illinois.

The proposed project would have been developed and operated by Cornbelt Energy and would have been built on land adjacent to an existing underground coal mine owned and operated by Turris Coal Company on a site in central Illinois.

DOE's proposed action was to provide cost-shared funding of approximately $33.5 million (about 23.5% of the total expected project cost of approximately $142.5 million). DOE announced its intent to prepare an EIS in the Federal Register on December 19, 1996 (61 FR 67003). DOE issued a Draft EIS (DEIS) for public comment on March 5, 2004 (69 FR 10442). Subsequently, the industrial participant communicated to DOE that it was unable to secure the funds needed to complete the proposed project.

Accordingly, DOE has determined to not pursue the proposed action, and is terminating the NEPA review process for the proposed project.

FOR FURTHER INFORMATION CONTACT: John Ganz, National Energy Technology Laboratory, U.S. Department of Energy, P.O. Box 880, Morgantown, WV 26507-0880 by telephone (304) 285-5443, or electronic mail to John.Ganz@netl.doe.gov.

Issued in Pittsburgh, PA this 19th day of February, 2008.
Ralph A. Carabetta,
Deputy Director, National Energy Technology Laboratory.

[FR Doc. E8-3923 Filed 2-28-08; 8:45 am]

BILLING CODE 6450-01-P